NATIONAL AERONAUTICS AND SPACE ADMINISTRATION

[Notice 11-064]

NASA Advisory Council; Space Operations Committee and Exploration Committee; Joint Meeting

AGENCY: National Aeronautics and Space Administration.

ACTION: Notice of meeting.

SUMMARY: In accordance with the Federal Advisory Committee Act, Public Law 92-463, as amended, the National Aeronautics and Space Administration announces a joint meeting of the Space Operations Committee and Exploration Committee of the NASA Advisory Council.

DATES: Tuesday, August 2, 2011, 8 a.m.-2:30 p.m., Wednesday, August 3, 2011, 9:30 a.m.-11:30 a.m.; Local Time. Please see signs.

ADDRESSES: NASA Ames Research Center, Building 152, Dailey Road, NASA Research Park, Moffett Field, CA 95035-1000.

FOR FURTHER INFORMATION CONTACT: Dr. Bette Siegel, Exploration Systems Mission Directorate, National Aeronautics and Space Administration Headquarters, 300 E Street, SW., Washington, DC 20546, 202-358-2245; bette.siegel@nasa.gov.

SUPPLEMENTARY INFORMATION: The agenda topics for the meeting will include:

• Task Group on Analysis Groups Final Report.

• Space Operations Mission Directorate/Exploration Systems Mission Directorate Merger Update.

• International Space Station Mars Analog Status Update.

• Commercial Orbital Transportation Services/Cargo Resupply Services and Commercial Crew.

• Multi-Purpose Crew Vehicle/Space Launch System Update.

• Preparation of Recommendation(s) (August 3, 2011).

The meeting will be open to the public up to the seating capacity of the room. It is imperative that the meeting be held on this date to accommodate the scheduling priorities of the key participants. Attendees will be required to comply with NASA security procedures, including the presentation of a valid picture ID. U.S. citizens will need to show valid, officially-issued picture identification such as a driver's license to enter into the NASA Research Park, and must state they are attending the NASA Advisory Council Space Operations Committee and Exploration Committee joint meeting in NASA Building 152. Permanent Resident Aliens will need to show residency status (valid green card) and a valid, officially issued picture identification such as a driver's license and must state they are attending the Space Operations Committee and Exploration Committee joint meeting in NASA Building 152. All non-U.S. citizens must submit, no less than 10 working days prior to the meeting, their name, current address, citizenship, company affiliation (if applicable) to include address, telephone number, and their title, place of birth, date of birth, U.S. visa information to include type, number and expiration date, U.S. Social Security Number (if applicable) to Dr. Bette Siegel, Executive Secretary, Exploration Committee, Exploration Systems Mission Directorate, NASA Headquarters, Washington, DC 20546. For questions, please contact Dr. Siegel at bette.siegel@nasa.gov or by telephone at (202) 358-2245.

Dated: July 7, 2011.
P. Diane Rausch,
Advisory Committee Management Officer, National Aeronautics and Space Administration.

[FR Doc. 2011-17511 Filed 7-12-11; 8:45 am]

BILLING CODE P